DEPARTMENT OF AGRICULTURE

Rural Business Cooperative Service

[DOCKET #: RBS-24-BUSINESS-0008]

Notice of Funding Opportunity for the Timber Production Expansion Guaranteed Loan Program for Fiscal Year 2024

AGENCY: Rural Business-Cooperative Service, USDA.

ACTION: Notice.

SUMMARY: The Rural Business-Cooperative Service (RBCS or Agency), a Rural Development (RD) agency of the United State Department of Agriculture (USDA), announces the acceptance of applications and availability of funding under the Timber Production Expansion Guaranteed Loan Program (TPEP) for fiscal year (FY) 2024. These guaranteed funds will be made available to eligible lenders to make loans to eligible borrowers seeking to establish, reopen, retrofit, expand, or improve a sawmill or other wood processing facility, in close proximity to a unit of United States Forest Service (USFS) National Forest System lands, including Indian forest land or rangeland, identified as high priority or very high priority on the map accessible using the following link: www.arcgis.com/apps/dashboards/5d6d9d9922a8486f83d51d40835f1870. This program will have in excess of $200 million available beginning in FY 2025 utilizing funding provided under the Infrastructure Investment and Jobs Act. All applicants are responsible for any expenses incurred in developing their applications.

DATES: Completed applications may be submitted beginning December 26, 2024. Applications will be accepted until funds are exhausted.

ADDRESSES: Applicants are encouraged to contact the Agency to discuss projects and ask any questions about the program or application process. Entities wishing to apply for assistance may download the application documents and requirements delineated in this notice from: rd.usda.gov/onerdguarantee. Applications will only be accepted electronically.

Applicants are encouraged to contact their respective RD State Office for an email contact to submit an electronic application. A list of the USDA RD State Office contacts can be found at: rd.usda.gov/about-rd/state-offices.

FOR FURTHER INFORMATION CONTACT: Shaun Stehr at TPEP@usda.gov, Loan and Grant Analyst, RBCS, USDA, 1400 Independence Avenue SW, Mail Stop 3201, Room 5803-South, Washington, DC 20250-3201; or call 717-675-0038.

SUPPLEMENTARY INFORMATION:

Overview

Federal Awarding Agency Name: Rural Business-Cooperative Service.

Funding Opportunity Title: Timber Production Expansion Guaranteed Loan Program.

Announcement Type: Notice of Funding Opportunity (NOFO).

Assistance Listing: 10.385.

Dates: Applications will be accepted beginning December 26, 2024. Applications will be accepted until all funds are expended.

Rural Development Key Priorities: The Agency encourages applicants to consider projects that will advance the following key priorities (more details available at www.rd.usda.gov/priority-points):

• Addressing Climate Change and Environmental Justice; Reducing climate pollution and increasing resilience to the impacts of climate change through economic support to rural communities.

• Advancing Racial Justice, Place-Based Equity, and Opportunity; Ensuring all rural residents have equitable access to RD programs and benefits from RD funded projects.

• Creating More and Better Market Opportunities; Assisting rural communities recover economically through more and better market opportunities and through improved infrastructure.

A. Program Description

1. Purpose of the Program. The TPEP will provide financial assistance through loan guarantees to lenders providing loans to entities seeking to establish, reopen, retrofit, expand, or improve a sawmill or other wood processing facility in close proximity to a unit of USFS National Forest System lands, including Indian forest land or rangeland, that has been identified as high or very high priority for ecological restoration if the presence of a sawmill or other wood-processing facility would substantially decrease or does substantially decrease the cost of conducting ecological restoration projects involving vegetation removal on the unit of land. These units of USFS National Forest System lands must be classified as being a high or very high priority for ecological restoration involving vegetation removal, due to the risk of unnaturally severe wildfires, or insect or disease infestation. The Agency will consider a facility to be in close proximity of the requisite unit of land if it is within two hundred fifty (250) miles of the area identified as high or very high priority for ecological restoration. TPEP facilities will purchase and process byproducts from ecosystem restoration projects.

2. Statutory and Regulatory Authority: The TPEP program is authorized by section 40804(d)(3)—Ecosystem Restoration—of the Infrastructure Investment and Jobs Act (Pub. L. 117-58) which directs USFS to provide financial assistance to entities seeking to establish, reopen, retrofit, expand, or improve a sawmill or other wood processing facility that is in close proximity to a unit of United States Forest Service (USFS) National Forest System lands, including Indian forest land or rangeland, that has been identified as high or very high priority for ecological restoration and that is using ecological byproducts from the unit of land. Further, the TPEP program is in response to White House Executive Order 14081 on advancing the domestic bioeconomy, the USDA report Building a Resilient Biomass Supply, (usda.gov/media/press-releases/2024/03/14/usda-outlines-vision-strengthen-american-bioeconomy-through-more), and the subsequent deliverables outlined in the report's Implementation Framework. The TPEP program is operating as a pilot program and will be administered under 7 CFR part 5001. TPEP is designed and implemented in a manner similar to the Business and Industry (B&I) Guaranteed loan program with minor changes to meet the needs of the timber industry. An interagency agreement between the USFS and RBCS will allow RBCS to implement the TPEP program in the interest of the USFS.

3. Definitions. The definitions applicable to this notice are published in 7 CFR 5001.3. For the purpose of this notice only:

(a) Wood Processing Facility means a facility that produces solid wood products (including lumber, posts and poles), engineered wood products (including plywood, veneer panels, and mass timber products), biomass energy products (heat, power, combined heat and power, and biochar), and fuel products (firewood, wood pellets, briquettes, and liquid biofuels).

(b) High Priority for Ecological Restoration means publicly owned USFS National Forest System lands, including Indian forest land or rangeland, that have been identified by USFS as high risk for wildfire or insect or disease infestation. USDA Forest Service mapping can be found at www.arcgis.com/apps/dashboards/5d6d9d9922a8486f83d51d40835f1870.

4. Application of Awards. The Agency will review, evaluate, and score applications received in response to this notice based on the provisions found in 7 CFR part 5001 Subpart A as indicated in this notice. Awards under TPEP will be made on a first come, first served basis using specific selection criteria contained in 7 CFR part 5001. The Agency advises all interested parties that the applicant bears the full burden in preparing and submitting an application in response to this notice.

5. Accounting Terms. Accounting terms not otherwise defined in this notice shall have the definition ascribed to them under Generally Accepted Accounting Principles (GAAP).

B. Federal Award Information

Type of Award: Loan Guarantee.

Available Funds: An excess of $200 million will be available beginning in FY 2025. RBCS may, at its discretion, increase the total level of funding available from any available source provided the awards meet the requirements of the statute which made the funding available to the Agency.

Award Amounts: The Administrator has established that the maximum loan amount is $25 million and there is no minimum loan amount.

Due Date for Applications: Applications will be accepted until funds are expended.

Anticipated Award Date: Beginning not earlier than one month post announcement.

Performance Period: Guaranteed loans are governed by the loan terms.

Type of Assistance Instrument: Loan note guarantee.

Loan guarantee limits:

(a) Loan amount. The total amount of guaranteed loans under this notice to one borrower, including the aggregate amount of guaranteed loans to affiliate entities dependent upon another's operations and generation of revenue for loan repayment, must not exceed $25 million.

(b) Percentage of guarantee. The percentage of guarantee will be 90 percent.

(c) Guarantee Fees. Guarantee fees, as determined under 7 CFR 5001.454, are not applicable to the TPEP program. The guaranteed loan will not have guarantee origination fees or annual guarantee service fees.

C. Eligibility Information

1. Eligibility Requirements. The eligibility requirements for the borrower, lender, and project (as applicable) are clarified in 7 CFR part 5001 and are summarized in this notice.

2. Eligible Borrowers and Lenders. To be eligible for a loan guarantee under TPEP, a lender must meet the eligibility requirements in 7 CFR 5001.130. The borrower must meet the requirements specified in 7 CFR 5001.126(a) and (d) at the time of each guaranteed loan's approval and through issuance of the loan note guarantee. In addition, the borrower must be:

(a) An entity engaged in or proposing to engage in establishing, reopening, retrofitting, expanding, or improving a sawmill or other wood-processing facility. For purposes of this notice, an eligible borrower entity may include a forest worker, logger, heavy equipment operator, material handler, or other professional entity responsible for purchasing and processing ecosystem restoration byproducts.

(b) Eligible borrowers must use ecosystem restoration byproducts from Federal or Tribal lands that USFS identified as high or very high priority for ecological restoration involving vegetation removal and must procure a significant amount of raw materials from Federal or Tribal lands. High priority designated lands can be found using the TPEP Priority Areas dashboard at the following link: www.arcgis.com/apps/dashboards/5d6d9d9922a8486f83d51d40835f1870.

3. Eligible Activities. Establishing, reopening, retrofitting, expanding, or improving a sawmill or other wood processing facility that is in close proximity to a unit of USFS National Forest System lands identified as high or very high priority for ecological restoration and that uses ecosystem restoration byproducts from an identified unit of USFS National Forest System lands, if the presence of a sawmill or other wood-processing facility would substantially decrease or does substantially decrease the cost of conducting ecological restorations projects involving vegetation removal on the unit of land. The Agency will consider a facility to be in close proximity of the requisite unit of land if it is within two hundred fifty (250) miles of the area identified as high or very high priority for ecological restoration.

4. Eligible Uses of Funds/Eligible projects. To be eligible for the program, a project must meet the eligibility requirements of 7 CFR 5001.121(c) and those specified in this notice. Borrowers must demonstrate, to the Agency's satisfaction, that guaranteed loan funds will be used to establish, reopen, retrofit, expand, or improve a sawmill or other wood processing facility that is in close proximity to a unit of USFS National Forest System lands that USFS identified as high or very high priority for ecological restoration and that uses ecological restoration byproducts from the high or very high priority unit of land. The following are additional eligible uses of guaranteed funds:

(a) Lender fees, as determined under 7 CFR 5001.403.

(b) Professional service fees and charges, provided the Agency approves the amounts as reasonable and customary in the area and fees for construction permits and licenses.

(c) Feasibility studies and business plans.

(d) Interest (including interest on interim financing) during the period before the first principal payment becomes due or when the facility becomes income producing, whichever is earlier.

(e) Refinancing in accordance with 7 CFR 5001.102(d). Unless the amount to be refinanced is owed directly to the Federal Government or is federally guaranteed, no more than 50 percent of loan funds may be used to refinance existing debt.

5. Cost Sharing or Matching. There are no cost sharing or matching requirements associated with this guarantee.

6. Other.

(a) Ineligible project costs. Ineligible project costs are in accordance with 7 CFR 5001.122.

(b) Approved Lenders. Lenders that have met the requirements and have received approval under 7 CFR 5001.130 are prequalified to lend under TPEP.

(c) Debarment and Suspension. Applicants are not eligible if they have been debarred or suspended or otherwise excluded from, or ineligible for, participation in Federal assistance programs under 2 CFR parts 180 and 417. Applicants will be required to comply with the requirement in 2 CFR 180.335. Lenders are responsible for verification of the borrower's status. Verification can be done at sam.gov.

D. Application and Submission Information

1. Address to Request Application Package. The TPEP Application Guide and copies of necessary forms and samples, are available at www.rd.usda.gov/onerdguarantee.

2. Content and Form of Application Submission. Applicants seeking to participate in this program must submit an application in accordance with this notice and 7 CFR part 5001, as applicable.

Carefully review this notice, 7 CFR parts 5001.301, 5001.302, 5001.303 and 5001.306, and the TPEP Application Guide, which collectively detail all required items for a complete application. Submitted applications and any accompanying materials become Federal records by law and cannot be returned to you.

Applicants may submit complete applications, until funds are expended, containing all parts necessary for the Agency to determine applicant and project eligibility, and to score the application in order to be considered.

3. System for Award Management and Unique Entity Identifier.

(a) At the time of application, each applicant must have an active registration in the System for Award Management (SAM) before submitting its application in accordance with 2 CFR part 25. To register in SAM, entities will be required to obtain a Unique Entity Identifier (UEI). Instructions for obtaining the UEI are available at sam.gov/content/entity-registration.

(b) Applicants must maintain an active SAM registration, with current, accurate and complete information, at all times during which it has an active Federal award or an application under consideration by a Federal awarding agency.

(c) Applicants must ensure they complete the Financial Assistance General Certifications and Representations in SAM.

(d) Applicants must provide a valid UEI in their application, unless determined exempt under 2 CFR 25.110.

(e) TheAgencywillnot make anaward until the applicant has complied with all SAM requirements including providing the UEI. If an applicant has not fully complied withthe requirements by the time theAgency is ready to make anaward, theAgency may determine that the applicant is not qualified to receive aFederalaward and use that determination as a basis for making aFederalaward to another applicant.

4. Submission Dates and Times. Applications for loan guarantees may be submitted at any time on an ongoing basis and applications will be accepted on a first come first served basis until all funds are expended. RBCS also reserves the right to ask applicants for clarifying information and additional verification of assertions in the application.

5. Intergovernmental Review. Executive Order (E.O.) 12372, Intergovernmental Review of Federal Programs, applies to this program. This E.O. requires that Federal agencies provide opportunities for consultation on proposed assistance with State and local governments, including, a county, municipality, town, township, village, or other unit of general government, including Tribal governments, below the State level. Many states have established a Single Point of Contact (SPOC) to facilitate this consultation. For a list of States that maintain a SPOC, please see the White House website: whitehouse.gov/omb/management/office-federal-financial-management/. If your State has a SPOC, you may submit a copy of the application directly for review. Any comments obtained through the SPOC must be provided to your State Office for consideration as part of your application. If your state has not established a SPOC, you may submit your application directly to the Agency. Applications from federally recognized Indian Tribes are not subject to this requirement.

6. Funding Restrictions. Applications must be for eligible purposes as defined in Section C.3. of this notice and must comply with the guaranteed loan fund limitations found in 7 CFR 5001.406(c).

7. Other Submission Requirements.

(a) Approved Multi-State Lenders. Lenders will upload all loan guarantee applications and servicing requests, regardless of loan amount to the OneRD Teams Portal.

(b) Non-Multi-State Lenders. All other lenders, other than designated Multi-State Lenders, will submit applications to the State Office electronically. State office contacts can be found at www.rd.usda.gov/about-rd/offices/state-offices.

E. Application Review Information

1. Criteria. All eligible and complete applications will be evaluated and scored based on the selection criteria and weights contained in this notice and in 7 CFR 5001.318. Failure to address any of the application criteria will result in the application being determined ineligible, and the application will not be considered for funding.

In addition to the scoring criteria outlined in 7 CFR 5001.318, there will be an additional 10 points that may be awarded for projects that address wildfire risk reduction or that provide documented justification for the following RD key priority categories:

(a) Assisting rural communities recover economically through more and better market opportunities and through improved infrastructure. An applicant would receive priority points if the project is located in or serving a rural community whose economic well-being ranks in the most distressed tier (distress score of 80 or higher) of the Distressed Communities Index using the Distressed Communities Look-Up Map available at www.rd.usda.gov/priority-points.

(b) Ensuring all rural residents have equitable access to RD programs and benefits from RD funded projects. Using the Social Vulnerability Index (SVI) Look-Up Map (available at www.rd.usda.gov/priority-points), an applicant would receive priority points if:

• The project is located in or serving a community with score 0.75 or above on the SVI;

• The applicant is a federally recognized Tribe, including Tribal instrumentalities and entities that are wholly owned by Tribes; or

• Is a project where at least 50 percent of the project beneficiaries are members of federally Recognized Tribes and non-Tribal applicants include a Tribal Resolution of Consent from the Tribe or Tribes (or other documentation of Consent consistent with the laws, procedures or practices of a Tribe or Tribes) that the applicant is proposing to serve.

• The application is from or benefiting a Rural Partner's Networks (RPN) community network. Currently, RPN networks exist in Alaska, Arizona, Georgia, Kentucky, Mississippi, Nevada, New Mexico, North Carolina, Puerto Rico, West Virginia, and Wisconsin. Use the Community Look-up map (available at www.rd.usda.gov/priority-points) to determine if your project qualifies for priority points.

(c) Reducing climate pollution and increasing resilience to the impacts of climate change through economic support to rural communities. Using the Disadvantaged Community and Energy Community Look-Up Map (available at www.rd.usda.gov/priority-points), applicants will receive priority in one of the three ways:

• If the project is located in or serves a Disadvantaged Community as defined by the Climate and Economic Justice Screening Tool (CEJST), from the White House Council on Environmental Quality;

• If the project is located in or serves an Energy Community as defined by the Inflation Reduction Act (IRA); and

• If applicants can demonstrate through a written narrative how the proposed climate-impact projects will improve the livelihoods of community residents and meet pollution mitigation or clean energy goals, including benefits calculated using the social cost of carbon estimates developed by the Environmental Protection Agency.

2. Review and Selection Process. The Agency will review each complete application to make a formal determination as to the eligibility of the borrower, lender, project, and guaranteed loan purpose and proposed use of funds; whether there is a reasonable assurance of repayment ability; whether sufficient collateral and equity exists; and whether the proposed guaranteed loan complies with all applicable statutes and regulations. The Agency will comply with provisions in 7 CFR 5001.315, “Application evaluation and award provisions”, for the review and selection process.

The Agency reserves the right to offer the applicant less than the funding requested.

F. Federal Award Administration Information

1. Federal Award Notices

Application Outcomes. TPEP loans will be processed in accordance with 7 CFR part 5001. RBCS reserves the right to make no awards if all applications are ineligible, incomplete or do not meet the established program objectives and priorities.

2. Administrative and National Policy Requirements

(a) Build America, Buy America (BABA). Awardees that are Non-Federal Entities, defined pursuant to 2 CFR 200.1 as any State, local government, Indian Tribe, Institution of Higher Education, or nonprofit organization, shall be governed by the requirements of section 70914 of the Build America, Buy America Act (BABA) within the Infrastructure Investment and Jobs Act (Pub. L. 117-58), and its implementing regulations at 2 CFR part 184. Any requests for waiver of these requirements must be submitted pursuant to USDA's guidance available online at www.usda.gov/ocfo/federal-financial-assistance-policy/USDABuyAmericaWaiver.

(b) Geospatial Data. Awardee, and any and all contracts entered into by the Awardee with respect to the Award, shall ensure that geospatial data required to be collected and provided to the agency, conforms with the requirements of USDA Department Regulation DR-3465-001 and the Geospatial Metadata Standards set forth in DM 3465-001, which can be obtained online at usda.gov/directives/dr-3465-001 and usda.gov/directives/dm-3465-001.

(c) Exception authority. The Administrator may, on a case-by-case basis grant an exception to any requirement or provision of this notice, provided that such an exception is in the best financial interests of the Federal Government. Exercise of this authority cannot be in conflict with applicable law.

(d) Appeals. The provisions of 7 CFR 5001.5 will apply to appeals under this notice. Funding of successfully appealed applications will be limited to available funding.

(e) General lender responsibilities. The provisions of 7 CFR 5001.6 will apply to general lender responsibilities under this notice.

(f) Approvals, regulations, and forms. The provisions of 7 CFR 5001.8 will apply to approvals, regulations and forms under this notice.

(g) Eligible lenders. To become a lender under this notice, the lending entity must meet the requirements specified in 7 CFR 5001.130, “Lender eligibility requirements.” Lenders approved by the Agency as an eligible lender under 7 CFR 5001.130 and that are in compliance with 7 CFR 5001.132 “Maintenance of approved lender status” and the requirements of this notice, are eligible lenders under this notice. Lenders must continue to comply with the requirements of 7 CFR 5001.132.

(h) Lender's agreement. Agency approval of the lender will be evidenced by an outstanding lender's agreement, between the Agency and the lender as referenced in 7 CFR 5001.131. When approved to participate as a lender under this notice, the lender must execute a lender's agreement before the Agency will issue a loan note guarantee.

(i) Access to records. The lender must permit representatives of the Agency (or other agencies of the United States) to inspect and make copies of any records of the lender pertaining to Agency guaranteed loans during regular office hours of the lender or at any other time upon agreement between the lender and the Agency. In addition, the lender must cooperate fully with Agency oversight and monitoring of all lenders involved in any manner with any guarantee to ensure compliance with this notice. Such oversight and monitoring will include, but is not limited to, reviewing lender records and meeting with lenders.

(j) Guarantee provisions. The provisions of 7 CFR 5001.450 will apply to guarantees provided under this notice.

(k) Participation or assignment of guaranteed loan. The provisions of 7 CFR 5001.408 will apply to guarantees provided under this notice.

(l) Repurchase from holder. The provisions of 7 CFR 5001.511 will apply to guarantees provided under this notice.

3. Reporting

The provisions of 7 CFR 5001.502 Oversight and Monitoring and the provisions of 7 CFR 5001.504 Financial Reports will apply to guarantees provided under this notice.

G. Federal Awarding Agency Contact(s)

For general questions about this announcement, please contact Shaun Stehr at TPEP@usda.gov or 202-594-6454. Program website also provide up to date contact information at rd.usda.gov/onerdguarantee.

H. Other Information

1. Paperwork Reduction Act. In accordance with the Paperwork Reduction Act of 1995 (44 U.S.C. chapter 35), the information collection requirements associated with the programs, as covered in this notice, have been approved by the Office of Management and Budget (OMB) under OMB Control Number 0572-0155.

2. National Environmental Policy Act. All recipients under this notice are subject to the requirements of 7 CFR part 1970.

3. Federal Funding Accountability and Transparency Act. All applicants, in accordance with 2 CFR part 25, must be registered in SAM and have a UEI number as stated in section D.3 of this notice. All recipients of Federal financial assistance are required to report information about first-tier sub-awards and executive total compensation in accordance with 2 CFR part 170.

4. Civil Rights Impact Analysis. RD has reviewed this notice in accordance with USDA Regulation 4300-4, Civil Rights Impact Analysis,” to identify any major civil rights impacts the notice might have on program participants on the basis of age, race, color, national origin, sex, disability, gender identity (including gender expression), genetic information, political beliefs, sexual orientation, marital status, familial status, parental status, veteran status, religion, reprisal and/or resulting from all or a part of an individual's income being derived from any public assistance program. This notice is within a Guarantee-based program. Guarantees are not covered under title VI of the Civil Rights Act of 1964, section 504 of the Rehabilitation Act of 1973, and title IX of the Education Amendments Act of 1972, as amended, when the Federal assistance does not include insurance or interest credit loans. Lenders must comply with other applicable Federal laws, including Equal Employment Opportunities, the Equal Credit Opportunity Act, the Fair Housing Act, and the Civil Rights Act of 1964. Guaranteed loans that involve the construction of or addition to facilities must comply with the Architectural Barriers Act Accessibility Standard. The borrower and lender are responsible for ensuring compliance with these requirements.

5. Equal Opportunity for Religious Organizations.

(a) Faith-based organizations may apply for this award on the same basis as any other organization, as set forth at, and subject to the protections and requirements of, this part and any applicable constitutional and statutory requirements, including 42 U.S.C. 2000bb et seq. USDA will not, in the selection of recipients, discriminate for or against an organization on the basis of the organization's religious character, motives, or affiliation, or lack thereof, or on the basis of conduct that would not be considered grounds to favor or disfavor a similarly situated secular organization.

(b) A faith-based organization that participates in this program will retain its independence from the Government and may continue to carry out its mission consistent with religious freedom and conscience protections in Federal law. Religious accommodations may also be sought under many of these religious freedom and conscience protection laws.

(c) A faith-based organization may not use direct Federal financial assistance from USDA to support or engage in any explicitly religious activities except when consistent with the Establishment Clause of the First Amendment and any other applicable requirements. An organization receiving Federal financial assistance also may not, in providing services funded by USDA, or in their outreach activities related to such services, discriminate against a program beneficiary or prospective program beneficiary on the basis of religion, a religious belief, a refusal to hold a religious belief, or a refusal to attend or participate in a religious practice.

6. Nondiscrimination Statement. In accordance with Federal civil rights laws and U.S. Department of Agriculture (USDA) civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; or the 711 Relay Service.

To file a program discrimination complaint, a complainant should complete a Form AD-3027, USDA Program Discrimination Complaint Form, which can be obtained online at www.usda.gov/sites/default/files/documents/ad-3027.pdf from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Kathryn E. Dirksen Londrigan,
Rural Business-Cooperative Service, USDA Rural Development.

[FR Doc. 2024-30651 Filed 12-23-24; 8:45 am]

BILLING CODE 3410-15-P